DEPARTMENT OF ENERGY

Federal Energy Regulatory Commission

[Docket Nos. CP04-223-000 and CP04-293-000]

KeySpan LNG, L.P.; Notice of Site Visit

May 19, 2004.

On June 4, 2004, the Office of Energy Projects (OEP) staff will conduct a pre-certification site visit of KeySpan LNG, L.P.'s (KeySpan LNG) liquefied natural gas storage facility in Providence, Rhode Island. We will view the site of the proposed facility upgrade and a planned pipeline route. Examination will be by automobile and on foot. Representatives of KeySpan LNG will be accompanying the OEP staff.

All interested parties may attend. Those planning to attend must provide their own transportation. Those interested in attending should meet at 9 a.m. (e.s.t.) at the KeySpan LNG facility at 121 Terminal Road, Providence.

For additional information contact David Swearingen at (202) 502-6173 or e-mail david.swearingen@ferc.gov.

Magalie R. Salas,
Secretary.

[FR Doc. E4-1216 Filed 5-25-04; 8:45 am]

BILLING CODE 6717-01-P